DEPARTMENT OF VETERANS AFFAIRS

Advisory Committee on Women Veterans; Notice of Meeting

The Department of Veterans Affairs (VA) gives notice under Public Law 92-463 (Federal Advisory Committee Act) that the Advisory Committee on Women Veterans will conduct a site visit on June 4-8, 2007, to the VA Palo Alto Health Care System (VAPAHCS), 3801 Miranda Avenue, Palo Alto, CA. Unless otherwise indicated, all briefings and updates will be held at the VA Palo Alto Health Care System. Site visit briefings, updates, and tours will be held from 8:30 a.m. until 4:30 p.m. each day and will be open to the public.

The purpose of the Committee is to advise the Secretary of Veterans Affairs, regarding the needs of women veterans with respect to health care, rehabilitation, compensation, outreach, and other programs and activities administered by VA designed to meet such needs. The Committee will make recommendations to the Secretary regarding such programs and activities.

On June 4, the agenda topics for this meeting will include briefings and updates from key leadership of the VAPAHCS and Polytrauma Center, as well as a tour of the polytrauma area, Medical Surgical Intensive Care Unit (MSICU), laboratory, hospice, and pharmacy. On June 5, the Committee will receive briefings and updates on the VAPAHCS Women's Health Center, resident training, academic affairs/research, quality assurance, and surgical services.

On June 6, the Committee will receive briefings from key leadership of the Veterans Integrated Service Network 21 (Sierra Pacific Network), California State Department of Veterans Affairs, Oakland VA Regional Office, VA National Cemetery Service, Redwood City Vet Center, and VAPAHCS's community-based outpatient clinics (CBOSs).

On June 7, the Committee will visit the Menlo Park Division of the VAPAHCS, located at 795 Willow Road, Menlo Park, CA. The Committee will receive briefings and updates on the Women's Mental Health Program, inpatient Post-Traumatic Stress Disorder (PTSD), program, drug addiction programs, crisis intervention, OIF Help Center, chaplain services for women veterans, and the Health Resources Initiatives for Veterans Everywhere (THRIVE). The Committee will tour the resource center for women veterans, the domiciliary, and the substance abuse inpatient unit.

On June 8, the Committee will receive briefings and updates on veteran service organizations, nursing services, and inpatient acute psychiatry building plans for privacy issues. These presentations will be followed by an open forum and town hall meeting. The five day site visit will conclude with an exit briefing by VAPAHCS leadership.

Any member of the public wishing to attend or seeking additional information should contact Ms. Chanel Bankston-Carter at the Department of Veterans Affairs, Center for Women Veterans (00W), 810 Vermont Avenue, NW., Washington, DC 20420. Ms. Bankston-Carter may be contacted either by phone at (202) 273-6193, fax at (202) 273-7092, or e-mail at 00W@mail.va.gov. Interested persons may attend, appear before, or file statements with the Committee. Written statements must be filed before the meeting or within 10 days after the meeting.

Dated: May 9, 2007.
By direction of the Secretary.
E. Philip Riggin,
Committee Management Officer.

[FR Doc. 07-2396 Filed 5-15-07; 8:45 am]

BILLING CODE 8320-01-M